DEPARTMENT OF THE INTERIOR

National Park Service

[NPS-WASO-NAGPRA-NPS0028648; PPWOCRADN0-PCU00RP14.R50000]

Notice of Inventory Completion: U.S. Department of Agriculture, Forest Service, Kootenai National Forest, Lincoln County, MT

AGENCY: National Park Service, Interior.

ACTION: Notice.

SUMMARY: The US. Department of Agriculture, Forest Service, Kootenai National Forest with assistance from the Army Corps of Engineers Mandatory Center of Expertise for the Curation and Management of Archeological Collections, has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Kootenai National Forest. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Kootenai National Forest at the address in this notice by October 3, 2019.

ADDRESSES: Cami Winslow, Kootenai National Forest Supervisory Public Services, 31374 US Highway 2, Libby, MT 59923-3022, telephone (406) 293-6211, email cami.winslow@usda.gov.

SUPPLEMENTARY INFORMATION: Notice is here given in accordance with the Native American Graves Protection and Repatriation Act (NAGPRA), 25 U.S.C. 3003, of the completion of an inventory of human remains under the control of the U.S. Department of Agriculture, Forest Service, Kootenai National Forest, Lincoln County, MT. The human remains were removed from Section 20 T29N R33W, Lincoln County, MT.

This notice is published as part of the National Park Service's administrative responsibilities under NAGPRA, 25 U.S.C. 3003(d)(3). The determinations in this notice are the sole responsibility of the Federal agencies that have control of the Native American human remains. The National Park Service is not responsible for the determinations in this notice.

Consultation

A detailed assessment of the human remains was made by the Army Corps of Engineers Mandatory Center of Expertise for the Curation and Management of Archeological Collections professional staff for the Kootenai National Forest in consultations with representatives of the Confederated Salish and Kootenai Tribes of the Flathead Reservation.

History and Description of the Remains

In 1974, human remains representing, at minimum, one individual were removed from site 24LN1024 in Lincoln County, MT. The Army Corps of Engineers Seattle District archeologist located an adult human left parietal cranial fragment (3cm x 5cm) on site. No known individuals were identified. No associated funerary objects are present.

Determinations Made by the Army Corps of Engineers Mandatory Center of Expertise for the Curation and Management of Archaeological Collections and Kootenai National Forest

Officials of the Army Corps of Engineers Mandatory Center of Expertise for the Curation and Management of Archaeological Collections and the Kootenai National Forest have determined that:

• Pursuant to 25 U.S.C. 3001(9), the human remains described in this notice represent the physical remains of one individual of Native American ancestry.

• Pursuant to 25 U.S.C. 3001(2), there is a relationship of shared group identity that can be reasonably traced between the human remains and the Confederated Salish and Kootenai Tribes of the Flathead Reservation.

Additional Requestors and Disposition

Lineal descendants or representatives of any Indian Tribe or Native Hawaiian organization not identified in this notice that wish to request transfer of control of these human remains should submit a written request with information in support of the request to Cami Winslow, Kootenai National Forest Supervisory Public Services, 31374 US Highway 2, Libby, MT 59923-3022, telephone (406) 293-6211, email cami.winslow@usda.gov, by October 3, 2019. After that date, if no additional requestors have come forward, transfer of control of the human remains to the Confederated Salish and Kootenai Tribes of the Flathead Reservation may proceed.

The U.S. Department of Agriculture, Forest Service, Kootenai National Forest is responsible for notifying the Confederated Salish and Kootenai Tribes of the Flathead Reservation that this notice has been published.

Dated: August 6, 2019.
Melanie O'Brien,
Manager, National NAGPRA Program.

[FR Doc. 2019-18862 Filed 8-30-19; 8:45 am]

BILLING CODE 4312-52-P